DEPARTMENT OF HOUSING AND URBAN DEVELOPMENT

[Docket No. FR-4900-FA-12]

Announcement of Funding Awards for the Community Development Technical Assistance Programs Fiscal Year 2004

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Community Development Technical Assistance programs. This announcement contains the names of the awardees and the amounts of the awards made available by HUD.

FOR FURTHER INFORMATION CONTACT: Mark A. Horwath, Director, Office of Technical Assistance and Management, Office of Community Planning and Development, 451 Seventh Street, SW., Room 7218, Washington, DC 20410-7000; telephone (202) 708-3176 (this is not a toll-free number). Hearing- and speech-impaired persons may access this number via TTY by calling the Federal Relay Service toll-free at (800) 877-8339. For general information on this and other HUD programs, call Community Connections at (800) 998-9999 or visit the HUD Web site at http://www.hud.gov.

SUPPLEMENTARY INFORMATION: The Fiscal Year 2004 Community Development Technical Assistance program was designed to increase the effectiveness of HUD's HOME Investment Partnerships Program (HOME), CHDO (HOME) program, Youthbuild program, Community Development Block Grant (CDBG) program, McKinney-Vento Homeless Assistance programs (Homeless), and Housing Opportunities for Persons with AIDS (HOPWA) program through the selection of technical assistance (TA) providers for these six programs.

The competition was announced in the SuperNOFA published May 14, 2004 (69 FR 27023). The NOFA allowed for approximately $36,800,000 for CD-TA grants. Applications were rated and selected for funding on the basis of selection criteria contained in that Notice.

For the Fiscal Year 2004 competition, a total of $36,282,809 was awarded to 82 technical assistance providers nationwide.

In accordance with section 102(a)(4)(C) of the Department of Housing and Urban Development Reform Act of 1989 (103 Stat. 1987, 42 U.S.C. 3545), the Department is publishing the grantees and the amounts of the awards in Appendix A to this document.

Dated: August 3, 2006.
Nelson R. Bregon,
General Deputy Assistant Secretary for Community Planning and Development.

Appendix A—Fiscal Year 2004 Funding Awards for Community Development Technical Assistance Programs
Recipient | State | Amount
National Community Development Association | DC | $166,400.00
Abt Associates, Inc | MA | 166,400.00
National Council for Community Development | NY | 166,400.00
Structured Employment Economic Development Corporation | NY | 241,950.00
ICF, Incorporated | VA | 500,000.00
Total CHDO |  | 1,241,150.00
State of Alaska Housing Finance Corporation | AK | 35,000.00
Rural Community Assistance Corporation | CA | 357,500.00
Housing Assistance Council | DC | 360,181.00
NCB Development Corporation | DC | 60,000.00
Chicago Rehabilitation Network | IL | 135,000.00
Statewide Housing Action Coalition | IL | 190,000.00
Indiana Association for Community Economic Development | IN | 230,000.00
Homeless and Housing Coalition of KY, Inc | KY | 75,000.00
Community Economic Development Assistance Corporation | MA | 75,000.00
Institute for Community Economics | MA | 450,000.00
Enterprise Foundation | MD | 302,499.00
Coastal Enterprises, Inc | ME | 75,000.00
State of Michigan Department of Consumer and Industry Services | MI | 150,000.00
Minnesota Housing Partnership | MN | 125,000.00
Regional Housing and Community Development Alliance | MO | 85,000.00
Affordable Housing Group | NC | 90,000.00
Training and Development Associates, Inc | NC | 1,341,250.00
Housing and Community Development Network of NJ | NJ | 125,000.00
Corporation for Supportive Housing | NY | 200,000.00
Local Initiatives Support Corporation | NY | 305,000.00
New York State Rural Housing Coalition, Inc | NY | 100,000.00
Structured Employment Economic Development Corporation | NY | 548,000.00
Ohio Capital Corporation for Housing | OH | 290,000.00
Neighborhood Partnership Fund | OR | 60,000.00
Puerto Rico Community Foundation | PR | 200,000.00
Douglas-Cherokee Economic Authority, Inc | TN | 225,000.00
Rural Collaborative, Inc | UT | 35,000.00
Common Ground | WA | 35,000.00
Community Frameworks (aka Northwest Regional Facilitators) | WA | 40,000.00
Urban Economic Development Association of WI | WI | 100,000.00
Wisconsin Partnership for Housing Development | WI | 150,000.00
Total CHDO |  | 6,549,430.00
State of Alaska Housing Finance Corporation | AK | 40,000.00
Rural Community Assistance Corporation | CA | 260,001.00
Dennison Associates | DC | 1,961,500.00
National Affordable Housing Training Institute (c/o NAHRO, Inc) | DC | 1,500,000.00
Commonwealth of MA Department of Housing and Community Development | MA | 140,000.00
Enterprise Foundation | MD | 199,999.00
Coastal Enterprises, Inc | ME | 20,000.00
State of Michigan Department of Consumer and Industry Services | MI | 125,000.00
Minnesota Housing Partnership | MN | 125,000.00
Regional Housing and Community Development Alliance | MO | 85,000.00
Training and Development Associates, Inc | NC | 846,250.00
New Mexico State Mortgage Finance Authority | NM | 100,000.00
Ohio Capital Corporation for Housing | OH | 55,000.00
Capital Access | PA | 110,000.00
Rural Collaborative, Inc | UT | 35,000.00
ICF, Incorporated | VA | 3,578,209.00
Total HOME |  | 9,180,959.00
State of Alaska Housing Finance Corporation | AK | 30,000.00
Homebase/ The Center for Common Concerns | CA | 102,500.00
Dennison Associates | DC | 851,929.00
Dennison Associates | DC | 630,000.00
Iowa Coalition for Housing and Homeless | IA | 20,000.00
Illinois Community Action Association | IL | 100,000.00
Abt Associates, Inc | MA | 3,542,927.00
Massachusetts Housing and Shelter Alliance | MA | 50,000.00
Technical Assistance Collaborative, Inc | MA | 577,500.00
University of MA at Boston | MA | 60,000.00
Enterprise Foundation | MD | 100,000.00
Coastal Enterprises, Inc | ME | 50,000.00
City-Connect Detroit | MI | 50,000.00
Minnesota Housing Partnership | MN | 125,000.00
Training and Development Associates, Inc | NC | 375,000.00
New Mexico Coalition to End Homelessness | NM | 20,000.00
HELP Social Service Foundation | NY | 50,000.00
Supportive Housing Network of NY | NY | 180,000.00
Partnership Center, Ltd | OH | 45,000.00
Douglas-Cherokee Economic Authority, Inc | TN | 60,000.00
Community Solutions | TX | 75,000.00
Texas Homeless Assistance Network | TX | 95,000.00
ICF, Incorporated | VA | 3,794,089.00
AIDS Housing of Washington | WA | 26,000.00
Urban Economic Development Association of WI | WI | 50,000.00
Total Homeless |  | 11,059,945.00
Bailey House | NY | 300,000.00
Center for Urban Community Services, Inc | NY | 800,000.00
AIDS Housing of Washington | WA | 940,000.00
Total HOPWA |  | 2,040,000.00
Homebuilders Institute | DC | 1,500,000.00
Youthbuild USA | MA | 4,711,325.00
Total Youthbuild |  | 6,211,325.00
Total |  | 36,282,809.00

[FR Doc. E6-14187 Filed 8-25-06; 8:45 am]

BILLING CODE 4210-67-P